DEPARTMENT OF ENERGY

Federal Energy Regulatory Commission

[Docket No. RP97-431-000]

Natural Gas Pipeline Company of America; Notice of Rescheduling of Conference

January 31, 2000.

Take notice that due to closure of the Federal Government because of inclement weather, the conference in the above-captioned proceeding originally scheduled for Tuesday, January 25, 2000, has been rescheduled for Thursday, February 10, 2000, beginning at 10:00 a.m., in Hearing Room No. 1, at the offices of the Federal Energy Regulatory Commission, 888 First Street, NE., Washington, DC 20426.

David P. Boergers,
Secretary.

[FR Doc. 00-2458 Filed 2-3-00; 8:45 am]

BILLING CODE 6717-01-M